DEPARTMENT OF COMMERCE

National Oceanic and Atmospheric Administration

[I.D. 071404B]

Marine Fisheries Advisory Committee; Public Meeting

AGENCY: National Marine Fisheries Service (NMFS), National Oceanic and Atmospheric Administration (NOAA), Commerce.

ACTION: Notice of public meetings.

SUMMARY: Notice is hereby given of meetings of the Marine Fisheries Advisory Committee (MAFAC) from August 10 through August 12, 2004.

DATES: The meetings are scheduled as follows:

August 10, 2004, 8:30 a.m. 5 p.m.

August 11, 2004, 8:30 a.m. 5 p.m.

August 12, 2004, 8:30 a.m. 5 p.m.

ADDRESSES: The meetings will be held at the Westmark Baranof Hotel, 127 N Franklin, Juneau, AK. Requests for special accommodations may be directed to MAFAC, Office of Constituent Services, NMFS, 1315 East-West Highway, #9508, Silver Spring, MD 20910.

FOR FURTHER INFORMATION CONTACT: Laurel Bryant, Designated Federal Official; telephone: (301) 713-2379 ext. 171.

SUPPLEMENTARY INFORMATION: As required by section 10(a) (2) of the Federal Advisory Committee Act, 5 U.S.C. App. (1982), notice is hereby given of meetings of MAFAC. MAFAC was established by the Secretary of Commerce (the “Secretary”) on February 17, 1972, to advise the Secretary on all matters concerning living marine resources that are the responsibility of the Department of Commerce. The Committee makes recommendations to the Secretary to assist in the development and implementation of Departmental regulations, policies and programs critical to the mission and goals of the National Marine Fisheries Service (the “Agency”). The Committee is composed of leaders in commercial, recreational, environmental, academic, state, tribal, and consumer interests from the nation's coastal regions.

Matters To Be Considered

August 10, 2004

General overview and updates on agency activities including Individual Fishing Quota initiatives, Recreational Fisheries Draft Strategic plan, and implementation status of the National Bycatch Reduction Plan, National Sea Grant Program, and collaborative Projects. Discussions will include participation from Sea Grant.

August 11, 2004

MAFAC will review and discuss the agency's initiative to modify National Standard One Guidelines under the Sustainable Fisheries Act. The remainder of the day will be dedicated to discussing the development of Marine Aquaculture policy.

August 12, 2004

The committee will make final reports to NOAA Fisheries prepare for the next meeting in 2005, and adjourn.

Time will be set aside for public comment on agenda items.

Special Accommodations

The meetings are physically accessible to people with disabilities. Request for sign language interpretation or other auxiliary aids should be directed to Laurel Bryant at (301) 713-2379 at least 7 days prior to the meeting date.

Dated: July 14, 2004.
Rebecca Lent,
Deputy Assistant Administrator for Regulatory Programs, National Marine Fisheries Service.

[FR Doc. 04-16470 Filed 7-19-04; 8:45 am]

BILLING CODE 3510-22-S